DEPARTMENT OF HEALTH AND HUMAN SERVICES

Administration for Children and Families

[CFDA Number: 93.602]

Announcement of the Award of Single-Source Program Expansion Supplement Grants to Seven Assets for Independence Demonstration Program Grantees

AGENCY: Office of Community Services (OCS), ACF, HHS.

ACTION: The Administration for Children and Families (ACF), Office of Community Services (OCS) announces the award of single-source program expansion supplements to seven FY 2012 grantees under the Assets for Independence Demonstration Program.

SUMMARY: The Administration for Children and Families (ACF), Office of Community Services (OCS) announces the award of single-source program expansion supplements to seven FY 2012 grantees under the Assets for Independence Demonstration Program (AFI). Grantees will provide an array of supports and services to enable individuals and families with low incomes to become more economically self-sufficient for the long term. A primary feature of each AFI project is that project participants are given access to special matched savings accounts called Individual Development Accounts (IDA). Participants open an IDA and save earned income in the account regularly with the goal of accumulating savings to acquire an economic asset that will appreciate over time—specifically, to purchase a home, capitalize or expand a business for self-employment, or attend higher education or training. Grantees also ensure that participants have access to financial literacy education and coaching such as training on money management and consumer issues. Grant recipients must finance the projects with a combination of the federal AFI grant and non-federal cash. The non-federal cash amount must be at least equal to the federal AFI grant amount.

DATES: Project periods are 04/1/2012-03/31/2017 and 07/1/2012-06/30/2017.

FOR FURTHER INFORMATION CONTACT: Al Fleming, Program Manager, Assets for Independence, 370 L'Enfant Promenade SW., Washington, DC 20447. Telephone: 202-401-4977; Email: al.fleming@acf.hhs.gov.

SUPPLEMENTARY INFORMATION: The following AFI grantees will receive single-source program expansion supplement awards:

Grantee organization | Grantee location | Award
Choctaw Nation of Oklahoma | Durant, OK | $400,000
Umpqua Community Development Corporation dba NeighborWorks | Roseburg, OR | 50,000
Community and Shelter Assistance Corp. dba CASA of Oregon | Sherwood, OR | 184,715
City of Austin | Austin, TX | 50,000
College Opportunity Resources for Education | Philadelphia, PA | 134,715
Juma Ventures | San Francisco, CA | 74,118
The Midas Collaborative, Inc | Allston, MA | 23,423

Statutory Authority: The Assets for Independence Act (AFI) (Title IV of the Community Opportunities, Accountability and Training and Educational Act of 1998, as amended, Pub. L. 105-285, 42 U.S.C. 604 note).

Jeannine L. Chaffin,
Director, Office of Community Services.

[FR Doc. 2012-24588 Filed 10-4-12; 8:45 am]

BILLING CODE 4184-26-P